DEPARTMENT OF ENERGY

10 CFR Part 431

[Docket No. EERE-2010-BT-STD-0043]

RIN 1904-AC36

Energy Conservation Program: Energy Conservation Standards for High-Intensity Discharge Lamps

AGENCY: Office of Energy Efficiency and Renewable Energy, Department of Energy.

ACTION: Reopening of public comment period.

SUMMARY: On October 21, 2014, the U.S. Department of Energy (DOE) published a notice of proposed determination (NOPD) regarding energy conservation standards for high-intensity discharge (HID) lamps in the Federal Register. This notice tentatively determined that potential standards for three subcategories of HID lamps are either not technologically feasible or not economically justified. On December 22, 2014, DOE received a joint comment from the Appliance Standards Awareness Project (ASAP), Northwest Energy Efficiency Alliance (NEEA), the American Council for an Energy-Efficient Economy (ACEEE), and the Natural Resources Defense Council (NRDC) (Joint Comment), opposing DOE's proposed determination. This document announces a reopening of the public comment period for submitting comments and data in response to the Joint Comment. The comment period is extended to March 6, 2015.

DATES: DOE will accept comments, data, and information in response to the Joint Comment received no later than March 6, 2015.

ADDRESSES: Interested persons may submit comments, identified by docket number EERE-2010-BT-STD-0043 and/or Regulation Identification Number (RIN) 1904-AC36, by any of the following methods:

• Federal eRulemaking Portal: www.regulations.gov. Follow the instructions for submitting comments.

• Email: HIDLamps-2010-STD-0043@ee.doe.gov. Include the docket number EERE-2010-BT-STD-0043 and/or RIN 1904-AC36 in the subject line of the message.

• Mail: Ms. Brenda Edwards, U.S. Department of Energy, Building Technologies Program, Mailstop EE-2J, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: www1.eere.energy.gov/buildings/appliance_standards/rulemaking.aspx/ruleid/23. This Web page contains a link to the docket for this notice on the www.regulations.gov site. The www.regulations.gov Web page contains instructions on how to access all documents in the docket, including public comments.

FOR FURTHER INFORMATION CONTACT:

Ms. Lucy deButts, U.S. Department of Energy, Office of Energy Efficiency and Renewable Energy, Building Technologies, EE-5J, 1000 Independence Avenue SW., Washington, DC 20585-0121. Telephone: (202) 287-1604. Email: high_intensity_discharge@ee.doe.gov.

Ms. Jennifer Tiedeman, U.S. Department of Energy, Office of the General Counsel, GC-33, 1000 Independence Avenue SW., Washington, DC 20585-0121. Telephone: (202) 287-6111. Email: Jennifer.Tiedeman@hq.doe.gov.

SUPPLEMENTARY INFORMATION: On October 21, 2014, DOE published a NOPD in the Federal Register that tentatively determined that potential standards for HID lamps are either not technologically feasible or not economically justified. 79 FR 62910. The notice provided for the submission of written comments by December 22, 2014.

On December 22, 2014, DOE received a joint comment from the Appliance Standards Awareness Project (ASAP), Northwest Energy Efficiency Alliance (NEEA), the American Council for an Energy-Efficient Economy (ACEEE), and the Natural Resources Defense Council (NRDC) (Joint Comment). The full comment can be found in Docket No. EERE-2010-BT-STD-0043-43. The Joint Comment opposed DOE's proposed determination for the following reasons:

1. Energy conservation standards for the [400 watt] metal halide representative lamp type are technically feasible and economically justified, and would result in significant energy savings (Joint Comment, No. 43 at p. 1); ¹

¹ A notation in the form of “Joint Comment, No. 43 at p. 1” identifies a written comment that DOE received and included in the docket of this rulemaking. This particular notation refers to a comment: (1) In the Joint Comment; (2) in the document number 43 of the docket; and (3) on page 1 of that document.

2. DOE's analysis fails to properly consider the likely consumer responses to replacing existing HID lamps (Joint Comment, No. 43 at p. 2); and

3. DOE's analysis should be based on mean lumen output and not on initial lumen output (Joint Comment, No. 43 at p. 3).

DOE is reopening the public comment period for the October 21, 2014 NOPD to allow interested parties to provide DOE with comments and data in response to the points made in the Joint Comment. DOE will consider any comments in response to the Joint Comment received by midnight of March 6, 2015, and deems any comments received by that time to be timely submitted.

Issued in Washington, DC, on January 26, 2015.
Kathleen B. Hogan,
Deputy Assistant Secretary for Energy Efficiency, Energy Efficiency and Renewable Energy.

[FR Doc. 2015-02157 Filed 2-3-15; 8:45 am]

BILLING CODE 6450-01-P